DEPARTMENT OF HEALTH AND HUMAN SERVICES

Meetings Announcement for the Physician-Focused Payment Model Technical Advisory Committee Required by the Medicare Access and CHIP Reauthorization Act of 2015 (MACRA); Correction

ACTION: Notice of public meetings; correction.

SUMMARY: The Department of Health and Human Services published a document in the Federal Register of February 05, 2018 detailing the 2018 PTAC meeting dates and the link that connects to the meeting registration website. The December meeting date has been shortened to a one day meeting and the registration link has been updated.

FOR FURTHER INFORMATION CONTACT: Sarah Selenich, Designated Federal Official, at the Office of Health Policy, Assistant Secretary for Planning and Evaluation, U.S. Department of Health and Human Services, 200 Independence Ave. SW, Washington, DC 20201, (202) 690-6870.

SUPPLEMENTARY INFORMATION:

Correction

In the Federal Register of February 5, 2018, in FR Doc. 2018-02211, on page 5109, in the first column, correct the “Dates” caption to read:

DATES: The 2018 PTAC meetings will occur on the following dates:

• Monday-Tuesday, March 26-27, 2018, from 9:00 a.m. to 5:00 p.m. ET

• Thursday-Friday, June 14-15, 2018, from 9:00 a.m. to 5:00 p.m. ET

• Thursday-Friday, September 6-7, 2018, from 9:00 a.m. to 5:00 p.m. ET

• Monday, December 10, 2018, from 12:30 p.m. to 5:00 p.m. ET

Please note that times are subject to change. If the times change, registrants will be notified directly via email.

Correction

In the Federal Register of February 5, 2018, in FR Doc. 2018-02211, on page 5109, in the second column, correct the “Meeting Registration” caption to read:

Meeting Registration:

The public may attend the meetings in-person or participate by phone via audio teleconference. Space is limited and registration is preferred in order to attend in-person or by phone. Registration may be completed online at http://www.cvent.com/d/gbq2tg.

The following information is submitted when registering:

Name:

Company/organization name:

Postal address:

Email address:

Persons wishing to attend a PTAC meeting must register by following the instructions in the “Meeting Registration” section of this notice. A confirmation email will be sent to registrants shortly after completing the registration process.

Dated: November 14, 2018.
Brenda Destro,
Deputy Assistant Secretary for Planning and Evaluation (HSP).

[FR Doc. 2018-25992 Filed 11-29-18; 8:45 am]

BILLING CODE 4150-15-P